DEPARTMENT OF HOMELAND SECURITY

Office of the Secretary

[Docket No. DHS-2015-0004]

Privacy Act of 1974; Department of Homeland Security United States Immigration Customs and Enforcement—011 Immigration and Enforcement Operational Records System of Records

AGENCY: Privacy Office, DHS.

ACTION: Notice of amendment of Privacy Act system of records.

SUMMARY: In accordance with the Privacy Act of 1974 the Department of Homeland Security U.S. Immigration and Customs Enforcement proposes to update and reissue an existing system of records titled, “Department of Homeland Security/Immigration and Customs Enforcement—011 Immigration and Enforcement Operational Records System of Records (ENFORCE).” This system of records is being modified to add two new routine uses that support ICE's sharing of information with external parties. These routine uses allow ICE to share information from this system of records with: (1) Other domestic law enforcement agencies or agencies operating sex offender registries when an alien required to register as a sex offender is released from ICE custody or removed from the United States, and (2) other government agencies or public health entities to facilitate continuity of care and to assist with investigating and combating significant public health threats. The exemptions for the existing system of records notice will continue to be unchanged. This updated system will continue to be included in the Department of Homeland Security's inventory of record systems.

DATES: Submit comments on or before April 1, 2015. This amended system will be effective April 1, 2015.

ADDRESSES: You may submit comments, identified by docket number DHS-2015-0004 by one of the following methods:

• Federal e-Rulemaking Portal: http://www.regulations.gov. Follow the instructions for submitting comments.

• Fax: 202-343-4010.

• Mail: Karen L. Neuman, Chief Privacy Officer, Privacy Office, Department of Homeland Security, Washington, DC 20528.

Instructions: All submissions received must include the agency name and docket number for this rulemaking. All comments received will be posted without change to http://www.regulations.gov, including any personal information provided.

Docket: For access to the docket to read background documents or comments received go to http://www.regulations.gov.

FOR FURTHER INFORMATION CONTACT: Lyn Rahilly, Privacy Officer, U.S. Immigration and Customs Enforcement, 500 12th Street SW., Mail Stop 5004, Washington, DC 20536, phone: 202-732-3300, email: ICEPrivacy@ice.dhs.gov; or Karen Neuman, Chief Privacy Officer, Privacy Office, U.S. Department of Homeland Security, Washington, DC 20528, phone: 202-343-1717.

SUPPLEMENTARY INFORMATION:

I. Background

In accordance with the Privacy Act of 1974, 5 U.S.C. 552a, the Department of Homeland Security (DHS) U.S. Immigration and Customs Enforcement (ICE) proposes to update and reissue a current DHS system of records titled “DHS/ICE—011 Immigration and Enforcement Operational Records (ENFORCE) System of Records.” With this update, ICE is notifying the public of two new routine uses added to permit ICE's sharing of limited information with external parties. These routine uses allow ICE to share information from this system of records with: (1) Other domestic law enforcement agencies or agencies operating sex offender registries when an alien required to register as a sex offender is released from ICE custody or removed from the United States, and (2) other government agencies or public health entities to facilitate continuity of care for individuals upon release from ICE custody and to assist with investigating and combating significant public health threats.

Notifications To Support Sex Offender Registration Requirements

ICE is proposing new routine use HH that will authorize disclosure of information from this system of records “to a domestic law enforcement agency or other agency operating a sex offender registry for the purpose of providing notice of an individual's release from DHS custody or removal from the United States, when the individual is required to register as a sex offender, in order to assist those agencies in updating sex offender registries and otherwise carrying out the sex offender registration requirements within their jurisdictions.”

ICE uses orders of supervision or orders of recognizance to release from custody criminal aliens who have been ordered removed from the United States but cannot be removed or further detained, or are released at the discretion of the agency. In these instances, ICE may set conditions for release. For aliens with a requirement to register as a sex offender with a sex offender registry, ICE's release conditions mandate that the alien enroll in a sexual deviancy counseling program and register as a sex offender, if applicable. Current federal laws impose registration requirements with sex offender registries and require offenders to keep their registration information current in each state, territorial, or tribal jurisdictions in which they live, work, or attend school, and, for initial registration purposes only, in the jurisdiction in which they were convicted, if such jurisdiction is different from the jurisdiction of residence.

With the publication of new routine use HH, ICE is proposing to notify domestic law enforcement agencies or agencies that operate state sex offender registries when an alien sex offender is released from ICE custody into that agency's jurisdiction (either directly or when that jurisdiction is the alien's declared intended residence), or when the alien is removed from the United States. ICE would share limited information, such as biographic information and release conditions or restrictions with the recipients. Notifications are intended to help inform agencies of the alien's whereabouts from the time the alien is released until the alien reaches his or her intended jurisdiction of residence or country of removal. Notifications of removal of an alien from the United States will help ensure individuals are removed from sex offender registries so that law enforcement resources are not deployed in an attempt to locate the alien.

Continuity of Care and Public Health Investigations

ICE is proposing new routine use II that will authorize sharing of data from this system of records with “federal, state, local, tribal, territorial, or foreign governmental agencies; multilateral governmental organizations; or other public health entities, for the purposes of protecting the vital interests of a data subject or other persons, including to assist such agencies or organizations during an epidemiological investigation, in facilitating continuity of care, preventing exposure to or transmission of a communicable or quarantinable disease of public health significance, or to combat other significant public health threats.”

In operating detention facilities, ICE's responsibilities include supporting public health actions, such as coordinating continuity of care for detainees with infectious diseases and facilitating public health investigations when faced with an infectious disease contact or outbreak. Though ICE may share with public health authorities specific health information from detainee medical records, which are maintained in the DHS/ICE—013 Alien Health Records system of records, it may be equally important in a public health context for ICE to share information about where the alien is currently located, which is maintained in the DHS/ICE—011 ENFORCE system of records. Sharing this location information with domestic and foreign agencies engaged in public health will support their mission to ensure continuity of care (e.g., continued treatment for a highly infectious disease) and to conduct public health investigations. With the addition of routine use II, ICE will be authorized to share select biographic and detention information, including facility information and transfer or release dates, with other government agencies or public health entities to support continuity of care.

In facilitating public health investigations, ICE assists state and local health departments in identifying individuals who may have come in contact with or been exposed to a detainee diagnosed with an infectious disease. These public health authorities take the lead in conducting contact and outbreak investigations to identify, inform, evaluate, and treat exposed individuals, including other detainees, staff, visitors, detainees or inmates at previous detention facilities, household members, and other contacts in the community, and require custody information about the ill detainee and contact information about other potentially exposed individuals. With the addition of routine use II, ICE will be authorized to share with other government agencies or public health authorities biographic, detention, immigration encounter, and contact information, including location and other contact information on individuals who may have been exposed to an affected detainee, in order to investigate and limit the spread of a potential public health threats.

The exemptions for the existing system of records notice will continue to be applicable for this system of records notice. This updated system will continue to be included in DHS's inventory of record systems.

II. Privacy Act

The Privacy Act embodies fair information practice principles in a statutory framework governing the means by which the federal government agencies collect, maintain, use, and disseminate individuals' records. The Privacy Act applies to information that is maintained in a “system of records.” A “system of records” is a group of any records under the control of an agency from which information is retrieved by the name of an individual or by some identifying number, symbol, or other identifying particular assigned to the individual. In the Privacy Act, an individual is defined to encompass U.S. citizens and lawful permanent residents. As a matter of policy, DHS extends administrative Privacy Act protections to all individuals when systems of records maintain information on U.S. citizens, lawful permanent residents, and visitors.

Below is the description of the amended DHS/ICE-011 Immigration and Enforcement Operational Records (ENFORCE) System of Records.

In accordance with 5 U.S.C. 552a(r), DHS has provided a report of this system of records to the Office of Management and Budget and to Congress.

SYSTEM OF RECORDS

DHS/ICE-011

System name:

Immigration and Enforcement Operational Records (ENFORCE)

Security classification:

Unclassified; Controlled Unclassified Information (CUI).

System location:

Records are maintained at the U.S. Immigration Customs and Enforcement (ICE) Headquarters in Washington, DC, ICE field and attaché offices, and detention facilities operated by or on behalf of ICE, or that otherwise house individuals detained by ICE.

Categories of individuals covered by the system:

Categories of individuals covered by this system include:

1. Individuals arrested, detained, and/or removed for criminal and/or administrative violations of the Immigration and Nationality Act, or individuals who are the subject of an ICE immigration detainer issued to another custodial agency;

2. Individuals arrested by ICE law enforcement personnel for violations of federal criminal laws enforced by ICE or DHS;

3. Individuals who fail to leave the United States after receiving a final order of removal, deportation, or exclusion, or who fail to report to ICE for removal after receiving notice to do so (fugitive aliens);

4. Individuals who are granted parole into the United States under section 212(d)(5) of the Immigration and Nationality Act (parolees);

5. Other individuals whose information may be collected or obtained during the course of an immigration enforcement or criminal matter, such as witnesses, associates, and relatives;

6. Attorneys or representatives who represent individuals listed in categories (1)-(4) above;

7. Persons who post or arrange bond for the release of an individual from ICE detention, or receive custodial property of a detained alien;

8. Personnel of other agencies who assisted or participated in the arrest or investigation of an alien, or who are maintaining custody of an alien; and

9. Prisoners of the U.S. Marshals Service held in ICE detention facilities.

Categories of records in the system:

Categories of records in this system include:

1. Biographic, descriptive, historical and other identifying data, including but not limited to: Names; aliases; fingerprint identification number (FIN); date and place of birth; passport and other travel document information; nationality; aliases; Alien Registration Number (A-Number); Social Security number; contact or location information (e.g., known or possible addresses, phone numbers); visa information; employment, educational, immigration, and criminal history; height, weight, eye color, hair color, and other unique physical characteristics (e.g., scars and tattoos).

2. Biometric data: Fingerprints and photographs. DNA samples required by Department of Justice regulation (see 28 CFR part 28) to be collected and sent to the Federal Bureau of Investigation (FBI). DNA samples are not retained or analyzed by DHS.

3. Information pertaining to ICE's collection of DNA samples, limited to the date and time of a successful collection and confirmation from the FBI that the sample was able to be sequenced. ICE does not receive or maintain the results of the FBI's DNA analysis (i.e., DNA sequences).

4. Case-related data, including: Case number, record number, and other data describing an event involving alleged violations of criminal or immigration law (location, date, time, event category, types of criminal or immigration law violations alleged, types of property involved, use of violence, weapons, or assault against DHS personnel or third parties, attempted escape and other related information; event categories describe broad categories of criminal law enforcement, such as immigration worksite enforcement, contraband smuggling, and human trafficking). ICE case management information, including: case category, case agent, date initiated, and date completed.

5. Birth, marriage, education, employment, travel, and other information derived from affidavits, certificates, manifests, and other documents presented to or collected by ICE during immigration and law enforcement proceedings or activities. This data typically pertains to subjects, relatives, and witnesses.

6. Detention data on aliens, including immigration detainers issued; transportation information; detention-related identification numbers; custodial property; information about an alien's release from custody on bond, recognizance, or supervision; detention facility; security classification; book-in/book-out date and time; mandatory detention and criminal flags; aggravated felon status; and other alerts.

7. Detention data for U.S. Marshals Service prisoners, including: Prisoner's name, date of birth, country of birth, detainee identification number, FBI identification number, state identification number, book-in date, book-out date, and security classification;

8. Limited health information relevant to an individual's placement in an ICE detention facility or transportation requirements (e.g., general information on physical disabilities or other special needs to ensure that an individual is placed in a facility or bed that can accommodate his or her requirements). Medical records about individuals in ICE custody (i.e., records relating to the diagnosis or treatment of individuals) are maintained in DHS/ICE—013 Alien Medical Records System of Records;

9. Progress, status, and final result of removal, prosecution, and other DHS processes and relating appeals, including: information relating to criminal convictions, incarceration, travel documents, and other information pertaining to the actual removal of aliens from the United States.

10. Contact, biographical, and identifying data of relatives, attorneys or representatives, associates, or witnesses of an alien in proceedings initiated and/or conducted by DHS including, but not limited to: name, date of birth, place of birth, telephone number, and business or agency name.

11. Data concerning personnel of other agencies that arrested, or assisted or participated in the arrest or investigation of, or are maintaining custody of an individual whose arrest record is contained in this system of records. This can include: name, title, agency name, address, telephone number, and other information.

12. Data about persons who post or arrange an immigration bond for the release of an individual from ICE custody, or receive custodial property of an individual in ICE custody. This data may include: name, address, telephone number, Social Security number, and other information.

Authority for maintenance of the system:

8 U.S.C. 1103, 1225, 1226, 1324, 1357, 1360, and 1365(a)(b); Justice for All Act of 2004 (Pub. L. 108-405); DNA Fingerprint Act of 2005 (Pub. L. 109-162); Adam Walsh Child Protection and Safety Act of 2006 (Pub. L. 109-248); and 28 CFR part 28, “DNA-Sample Collection and Biological Evidence Preservation in the Federal Jurisdiction.”

Purpose(s):

The purposes of this system are:

1. To support the identification, apprehension, and removal of individuals unlawfully entering or present in the United States in violation of the Immigration and Nationality Act, including fugitive aliens.

2. To support the identification and arrest of individuals (both citizens and non-citizens) who commit violations of federal criminal laws enforced by DHS.

3. To track the process and results of administrative and criminal proceedings against individuals who are alleged to have violated the Immigration and Nationality Act or other laws enforced by DHS.

4. To support the grant, denial, and tracking of individuals who seek or receive parole into the United States.

5. To provide criminal and immigration history information during DHS enforcement encounters, and background checks on applicants for DHS immigration benefits (e.g., employment authorization and petitions).

6. To identify potential criminal activity, immigration violations, and threats to homeland security; to uphold and enforce the law; and to ensure public safety.

Routine uses of records maintained in the system, including categories of users and the purposes of such uses:

In addition to those disclosures generally permitted under 5 U.S.C. 552a(b) of the Privacy Act, all or a portion of the records or information contained in this system may be disclosed outside DHS as a routine use pursuant to 5 U.S.C. 552a(b)(3) as follows:

A. To the Department of Justice (DOJ) or other federal agency conducting litigation or in proceedings before any court, adjudicative, or administrative body, or to a court, magistrate, administrative tribunal, opposing counsel, parties, and witnesses, in the course of a civil or criminal proceeding before a court or adjudicative body when it is necessary to the litigation and one of the following is a party to the litigation or has an interest in such litigation:

1. DHS or any component thereof;

2. any employee of DHS in his/her official capacity;

3. any employee of DHS in his/her individual capacity when DOJ or DHS has agreed to represent the employee; or

4. the U.S. or any agency thereof, is a party to the litigation or has an interest in such litigation, and DHS determines that the records are both relevant and necessary to the litigation and the use of such records is compatible with the purpose for which DHS collected the records.

B. To a congressional office from the record of an individual in response to an inquiry from that congressional office made at the request of the individual to whom the record pertains.

C. To the National Archives and Records Administration or other federal government agencies pursuant to records management inspections being conducted under the authority of 44 U.S.C. 2904 and 2906.

D. To an agency, organization, or individual for the purpose of performing audit or oversight operations as authorized by law, but only such information as is necessary and relevant to such audit or oversight function.

E. To appropriate agencies, entities, and persons when:

1. DHS suspects or has confirmed that the security or confidentiality of information in the system of records has been compromised;

2. DHS has determined that as a result of the suspected or confirmed compromise there is a risk of harm to economic or property interests, identity theft or fraud, or harm to the security or integrity of this system or other systems or programs (whether maintained by DHS or another agency or entity) or harm to the individual who relies upon the compromised information; and

3. The disclosure made to such agencies, entities, and persons is reasonably necessary to assist in connection with DHS's efforts to respond to the suspected or confirmed compromise and prevent, minimize, or remedy such harm.

F. To contractors and their agents, grantees, experts, consultants, and others performing or working on a contract, service, grant, cooperative agreement, or other assignment for DHS, when necessary to accomplish an agency function related to this system of records. Individuals provided information under this routine use are subject to the same Privacy Act requirements and limitations on disclosure as are applicable to DHS officers and employees.

G. To an appropriate federal, state, tribal, local, international, or foreign law enforcement agency or other appropriate authority charged with investigating or prosecuting a violation or enforcing or implementing a law, rule, regulation, or order, when a record, either on its face or in conjunction with other information, indicates a violation or potential violation of law, which includes criminal, civil, or regulatory violations and such disclosure is proper and consistent with the official duties of the person making the disclosure.

H. To a court, magistrate, or administrative tribunal in the course of presenting evidence, including disclosures to opposing counsel or witnesses in the course of civil discovery, litigation, or settlement negotiations, including to an actual or potential party or his or her attorney, or in connection with criminal law proceedings.

I. To other federal, state, local, or foreign government agencies, individuals, and organizations during the course of an investigation, proceeding, or activity within the purview of immigration and nationality laws to elicit information required by DHS/ICE to carry out its functions and statutory mandates.

J. To the appropriate foreign government agency charged with enforcing or implementing laws when there is an indication of a violation or potential violation of the law of another nation (whether civil or criminal), and to international organizations engaged in the collection and dissemination of intelligence concerning criminal activity.

K. To other federal agencies for the purpose of conducting national intelligence and security investigations.

L. To any federal agency, when appropriate, to enable such agency to make determinations regarding the payment of federal benefits to the record subject in accordance with that agency's statutory responsibilities.

M. To foreign governments for the purpose of coordinating and conducting the removal of aliens to other nations; and to international, foreign, and intergovernmental agencies, authorities, and organizations in accordance with law and formal or informal international arrangements.

N. To family members and attorneys or other agents acting on behalf of an alien, to assist those individuals in determining whether: (1) The alien has been arrested by DHS for immigration violations; (2) the location of the alien if in DHS custody; or (3) the alien has been removed from the United States, provided however, that the requesting individuals are able to verify the alien's date of birth or Alien Registration Number (A-Number), or can otherwise present adequate verification of a familial or agency relationship with the alien.

O. To the DOJ Executive Office of Immigration Review (EOIR) or their contractors, consultants, or others performing or working on a contract for EOIR, for the purpose of providing information about aliens who are or may be placed in removal proceedings so that EOIR may arrange for the provision of educational services to those aliens under EOIR's Legal Orientation Program.

P. To attorneys or legal representatives for the purpose of facilitating group presentations to aliens in detention that will provide the aliens with information about their rights under U.S. immigration law and procedures.

Q. To a federal, state, tribal, or local government agency to assist such agencies in collecting the repayment of recovery of loans, benefits, grants, fines, bonds, civil penalties, judgments or other debts owed to them or to the U.S. Government, and/or to obtain information that may assist DHS in collecting debts owed to the U.S. Government.

R. To the State Department in the processing of petitions or applications for immigration benefits and non-immigrant visas under the Immigration and Nationality Act, and all other immigration and nationality laws including treaties and reciprocal agreements; or when the State Department requires information to consider and/or provide an informed response to a request for information from a foreign, international, or intergovernmental agency, authority, or organization about an alien or an enforcement operation with transnational implications.

S. To the Office of Management and Budget (OMB) in connection with the review of private relief legislation as set forth in OMB Circular No. A-19 at any stage of the legislative coordination and clearance process as set forth in the Circular.

T. To the U.S. Senate Committee on the Judiciary or the U.S. House of Representatives Committee on the Judiciary when necessary to inform members of Congress about an alien who is being considered for private immigration relief.

U. To a criminal, civil, or regulatory law enforcement authority (whether federal, state, local, territorial, tribal, international, or foreign) when the information is necessary for collaboration, coordination, and de-confliction of investigative matters, to avoid duplicative or disruptive efforts, and for the safety of law enforcement officers who may be working on related investigations.

V. To the U.S. Marshals Service concerning Marshals Service prisoners that are or will be held in detention facilities operated by or on behalf of ICE in order to coordinate the transportation, custody, and care of these individuals.

W. To third parties to facilitate placement or release of an alien (e.g., at a group home, homeless shelter) who has been or is about to be released from ICE custody but only such information that is relevant and necessary to arrange housing or continuing medical care for the alien.

X. To an appropriate domestic government agency or other appropriate authority for the purpose of providing information about an alien who has been or is about to be released from ICE custody who, due to a condition such as mental illness, may pose a health or safety risk to himself/herself or to the community. ICE will only disclose information about the individual that is relevant to the health or safety risk they may pose and/or the means to mitigate that risk (e.g., the alien's need to remain on certain medication for a serious mental health condition).

Y. To the DOJ Federal Bureau of Prisons (BOP) and other federal, state, local, territorial, tribal, and foreign law enforcement or custodial agencies for the purpose of placing an immigration detainer on an individual in that agency's custody, or to facilitate the transfer of custody of an individual from ICE to the other agency. This will include the transfer of information about unaccompanied minor children to the U.S. Department of Health and Human Services (HHS) to facilitate the custodial transfer of such children from ICE to HHS.

Z. To DOJ, disclosure of DNA samples and related information as required by 28 CFR part 28.

AA. To DOJ, disclosure of arrest and removal information for inclusion in relevant DOJ law enforcement databases and for use in the enforcement federal firearms laws (e.g., Brady Act).

BB. To federal, state, local, tribal, territorial, or foreign governmental or quasi-governmental agencies or courts to confirm the location, custodial status, removal, or voluntary departure of an alien from the United States, in order to facilitate the recipient agencies' exercise of responsibilities pertaining to the custody, care, or legal rights (including issuance of a U.S. passport) of the removed individual's minor children, or the adjudication or collection of child support payments or other debts owed by the removed individual.

CC. Disclosure to victims regarding custodial information, such as release on bond, order of supervision, removal from the United States, or death in custody, about an individual who is the subject of a criminal or immigration investigation, proceeding, or prosecution.

DD. To any person or entity to the extent necessary to prevent immediate loss of life or serious bodily injury, (e.g., disclosure of custodial release information to witnesses who have received threats from individuals in custody.)

EE. To an individual or entity seeking to post or arrange, or who has already posted or arranged, an immigration bond for an alien to aid the individual or entity in (1) identifying the location of the alien, or (2) posting the bond, obtaining payments related to the bond, or conducting other administrative or financial management activities related to the bond.

FF. To appropriate federal, state, local, tribal, or foreign governmental agencies or multilateral governmental organizations when DHS is aware of a need to utilize relevant data for purposes of testing new technology and systems designed to enhance national security or identify other violations of law.

GG. To members of the public, disclosure of limited detainee biographical information for the purpose of (1) identifying whether the detainee is in ICE custody and the custodial location, and (2) facilitating the deposit of monies into detainees' accounts for telephone or commissary services in a detention facility.

HH. To a domestic law enforcement agency or other agency operating a sex offender registry for the purpose of providing notice of an individual's release from DHS custody or removal from the United States when the individual is required to register as a sex offender, in order to assist those agencies in updating sex offender registries and otherwise carrying out the sex offender registration requirements within their jurisdictions.

II. To federal, state, local, tribal, territorial, or foreign governmental agencies; multilateral governmental organizations; or other public health entities, for the purposes of protecting the vital interests of a data subject or other persons, including to assist such agencies or organizations during an epidemiological investigation, in facilitating continuity of care, preventing exposure to or transmission of a communicable or quarantinable disease of public health significance, or to combat other significant public health threats.

JJ. To the news media and the public, with the approval of the Chief Privacy Officer in consultation with counsel, when there exists a legitimate public interest in the disclosure of the information or when disclosure is necessary to preserve confidence in the integrity of DHS or is necessary to demonstrate the accountability of DHS's officers, employees, or individuals covered by the system, except to the extent it is determined that release of the specific information in the context of a particular case would constitute an unwarranted invasion of personal privacy.

Disclosure to consumer reporting agencies:

None.

Policies and practices for storing, retrieving, accessing, retaining, and disposing of records in the system:

Storage:

Information can be stored in case file folders, cabinets, safes, or a variety of electronic or computer databases and storage media.

Retrievability:

Records may be retrieved by name, identification numbers including, but not limited to, A-Number, fingerprint identification number, Social Security number, case or record number if applicable, case related data, and/or combination of other personal identifiers including, but not limited to, date of birth and nationality.

Safeguards:

Records in this system are safeguarded in accordance with applicable rules and policies, including all applicable DHS automated systems security and access policies. Strict controls have been imposed to minimize the risk of compromising the information that is being stored. Access to the computer system containing the records in this system is limited to those individuals who have a need to know the information for the performance of their official duties and who have appropriate clearances or permissions.

Retention and disposal:

ICE is in the process of drafting a proposed record retention schedule for the information maintained in the Enforcement Integrated Database (EID). ICE anticipates retaining records of arrests, detentions, and removals in EID for one-hundred (100) years; records concerning U.S. Marshals Service prisoners for ten (10) years; fingerprints and photographs collected using Mobile IDENT for up to seven (7) days in the cache of an encrypted government laptop; Enforcement Integrated Database Data Mart (EID-DM), ENFORCE Alien Removal Module Data Mart (EARM-DM), and ICE Integrated Decision Support (IIDS) records for seventy-five (75) years; user account management records (UAM) for ten (10) years following an individual's separation of employment from federal service; statistical records for ten (10) years; audit files for fifteen (15) years; and backup files for up to one (1) month.

ICE anticipates retaining records from the Fugitive Case Management System (FCMS) for ten (10) years after a fugitive alien has been arrested and removed from the United States; 75 years from the creation of the record for a criminal fugitive alien that has not been arrested and removed; ten (10) years after a fugitive alien reaches 70 years of age, provided the alien has not been arrested and removed and does not have a criminal history in the United States; ten (10) years after a fugitive alien has obtained legal status; ten (10) years after arrest and/or removal from the United States for a non-fugitive alien's information, whichever is later; audit files for 90 days; backup files for 30 days; and reports for ten (10) years or when no longer needed for administrative, legal, audit, or other operations purposes.

System Manager and Address:

Unit Chief, Law Enforcement Systems/Data Management, U.S. Immigration and Customs Enforcement, Office of Investigations Law Enforcement Support and Information Management Division, Potomac Center North, 500 12th Street SW., Washington, DC 20536.

Notification procedure:

The Secretary of Homeland Security has exempted this system from the notification, access, and amendment procedures of the Privacy Act because it is a law enforcement system. However, ICE will consider individual requests to determine whether or not information may be released. Thus, individuals seeking notification of and access to any record contained in this system of records, or seeking to contest its content, may submit a request in writing to ICE's FOIA Officer, whose contact information can be found at www.dhs.gov/foia under “contacts.”

When seeking records about yourself from this system of records or any other Departmental system of records your request must conform with the Privacy Act regulations set forth in 6 CFR part 5. You must first verify your identity, meaning that you must provide your full name, current address, and date and place of birth. You must sign your request, and your signature must either be notarized or submitted under 28 U.S.C. 1746, a law that permits statements to be made under penalty of perjury as a substitute for notarization. While no specific form is required, you may obtain forms for this purpose from the Chief Privacy Officer and Chief Freedom of Information Act Officer, http://www.dhs.gov or 1-866-431-0486. In addition you should provide the following:

• An explanation of why you believe the Department would have information on you;

• Identify which component(s) of the Department you believe may have the information about you;

• Specify when you believe the records would have been created;

• Provide any other information that will help the FOIA staff determine which DHS component agency may have responsive records; and

• If your request is seeking records pertaining to another living individual, you must include a statement from that individual certifying his/her agreement for you to access his/her records.

Without this bulleted information the component(s) may not be able to conduct an effective search, and your request may be denied due to lack of specificity or lack of compliance with applicable regulations.

Record access procedures:

See “Notification procedure” above.

Contesting record procedures:

See “Notification procedure” above.

Record source categories:

Records in the system are supplied by several sources. In general, information is obtained from individuals covered by this system, and other federal, state, local, tribal, or foreign governments. More specifically, DHS/ICE-011 records derive from the following sources:

(a) Individuals covered by the system and other individuals (e.g., witnesses, family members);

(b) Other federal, state, local, tribal, or foreign governments and government information systems;

(c) Business records;

(d) Evidence, contraband, and other seized material; and

(e) Public and commercial sources.

Exemptions claimed for the system:

The Secretary of Homeland Security has exempted portions of this system of records from subsections (c)(3) and (4); (d); (e)(1), (e)(2), (e)(3), (e)(4)(G), (e)(4)(H), (e)(5), and (e)(8); and (g) of the Privacy Act pursuant to 5 U.S.C. 552a(j)(2). In addition, the Secretary of Homeland Security has exempted portions of this system of records from subsections (c)(3); (d); (e)(1), (e)(4)(G), and (e)(4)(H) of the Privacy Act pursuant to 5 U.S.C. 552a(k)(2). These exemptions apply only to the extent that records in the system are subject to exemption pursuant to 5 U.S.C. 552a(j)(2) and (k)(2).

In addition, to the extent a record contains information from other exempt systems of records, DHS will rely on the exemptions claimed for those systems.

Karen L. Neuman,
Chief Privacy Officer, Department of Homeland Security.

[FR Doc. 2015-04266 Filed 2-27-15; 8:45 am]

BILLING CODE 9111-28-P